DEPARTMENT OF LABOR

Office of the Secretary

Submission for OMB review; comment request

March 18, 2004.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on 202-693-4122 (this is not a toll-free number) or E-Mail: mills.ira@dol.gov.

Comments should be sent to Office of Information and Regulatory Affairs, Attn: OMB Desk Officer for DOL, Office of Management and Budget, Room 10235, Washington, DC 20503 202-395-7316 (this is not a toll-free number), within 30 days from the date of this publication in the Federal Register.

The OMB is particularly interested in comments which:

• Evaluate whether the proposed collection of information is necessary for the proper performance of the functions of the agency, including whether the information will be have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Revision of a currently approved collection.

Title: Construction Recordkeeping and Reporting.

OMB Number: 1215-0163.

Frequency: Annually.

Affected Public: Business or other for-profit, Not-for-profit institutions.

Total Respondents: 100,000.

Total Annual Responses: 100,000.

Average Time per Response, Recordkeeping: 48 hours.

Records Maintenance: 8 to 24 hours.

Affirmative Action Plan, Initial Development: 18 hours.

Affirmative Action Plan, Annual Update: 7.5 hours.

Affirmative Action Plan, Maintenance: 7.5 hours.

Compliance Reviews: 1-2 hours.

Total Burden Hours, Recordkeeping and Reporting: 4,841,468.

Total Burden Cost (capital/startup): $8,217.

Total Annual Costs (operating/maintaining systems or purchasing services): $0.

Description: Part 60-4 sets out the purpose and scope of the affirmative action requirements for construction contractors. Accordingly, contractors should implement the specific affirmative action steps in accordance with 41 CFR 60-4.3(a)7, Standard Federal Equal Employment Opportunity Construction Contract specifications (Executive Order 11246, as amended).

Ira L. Mills,
Departmental Clearance Officer.

[FR Doc. 04-6786 Filed 3-25-04; 8:45 am]

BILLING CODE 4510-CM-M